SMALL BUSINESS ADMINISTRATION

Public Federal Regulatory Enforcement Fairness Hearing; Small Business Administration, Region IX Regulatory Fairness Board

The Small Business Administration Region IX Regulatory Fairness Board and the SBA Office of the National Ombudsman will hold a Public Hearing on Thursday, February 6, 2003 at 1:30 p.m. (Local Time) at the Cameron Center, 95 Mahalani Street, Wailuku, Maui, HI 96793, to receive comments and testimony from small business owners, small government entities, and small non-profit organizations concerning regulatory enforcement and compliance actions taken by federal agencies.

Anyone wishing to attend or to make a presentation must contact Ann Murata in writing or by fax, in order to be put on the agenda. Ann Murata, U.S. Small Business Administration, Hawaii District Office, 300 Ala Moana Boulevard, Room 2-235, Honolulu, HI 96850, phone (808) 541-2992, fax (202) 481-0267, e-mail ann.murata@sba.gov.

For more information, see our Web site at http://www.sba.gov/ombudsman.

Dated: January 24, 2003.
C. Edward Rowe III,
Counsel, Office of the National Ombudsman.

[FR Doc. 03-2271 Filed 1-30-03; 8:45 am]

BILLING CODE 8025-01-P